NUCLEAR REGULATORY COMMISSION

[Docket Nos. 50-254 and 50-265]

Exelon Generation Company, LLC, Quad Cities Nuclear Power Station, Units 1 and 2; Notice of Availability of the Final Supplement 16 To Generic Environmental Impact Statement for the License Renewal of Quad Cities Nuclear Power Station, Units 1 and 2

Notice is hereby given that the U.S. Nuclear Regulatory Commission (the Commission) has published a final plant-specific supplement to the Generic Environmental Impact Statement (GEIS), NUREG-1437, regarding the renewal of operating licenses DPR-29 and DPR-30 for an additional 20 years of operation at Quad Cities Nuclear Power Station (QCNPS). QCNPS is located in Rock Island County, Illinois, approximately 4 miles north of Cordova, Illinois. Possible alternatives to the proposed action (license renewal) include no action and reasonable alternative energy sources.

It is stated in Section 9.3 of the report: Based on (1) The analysis and findings in the GEIS (NRC 1996; 1999); (2) the ER [Environmental Report] submitted by Exelon (Exelon 2003b); (3) consultation with Federal, State, and local agencies; (4) the staff's own independent review; and (5) the staff's consideration of the public comments, the recommendation of the staff is that the Commission determine that the adverse environmental impacts of license renewal for Quad Cities Units 1 and 2 are not so great that preserving the option of license renewal for energy-planning decisionmakers would be unreasonable.

The final Supplement 16 to the GEIS is available for public inspection in the NRC Public Document Room (PDR) located at One White Flint North, 11555 Rockville Pike (first floor), Rockville, Maryland, or from the Publicly Available Records (PARS) component of NRC's Agencywide Documents Access and Management System (ADAMS). ADAMS is accessible from the NRC Web site at http://www.nrc.gov/reading-rm/adams.html (the Public Electronic Reading Room). Persons who do not have access to ADAMS, or who encounter problems in accessing the documents located in ADAMS, should contact the PDR reference staff at 1-800-397-4209, 301-415-4737, or by e-mail to pdr@nrc.gov. In addition, the Cordova District Library, 402 Main Avenue, Cordova, Illinois; the River Valley Library, 214 South Main Street, Port Byron, Illinois; and the Davenport Public Library, 321 Main Street, Davenport, Iowa, have agreed to make the final plant-specific supplement to the GEIS available for public inspection.

FOR FURTHER INFORMATION CONTACT: Dr. Michael T. Masnik, License Renewal and Environmental Impacts Program, Division of Regulatory Improvement Programs, U.S. Nuclear Regulatory Commission, Washington, DC 20555. Dr. Masnik may be contacted at 301-415-1191 or MTM2@nrc.gov.

Dated in Rockville, Maryland, this 2nd day of July, 2004.
For the Nuclear Regulatory Commission.
Samson Lee,
Acting Program Director, License Renewal and Environmental Impacts Program, Division of Regulatory Improvement Programs, Office of Nuclear Reactor Regulation.

[FR Doc. 04-15593 Filed 7-8-04; 8:45 am]

BILLING CODE 7590-01-P